DEPARTMENT OF ENERGY

Federal Energy Regulatory Commission

Combined Notice of Filings #1

Take notice that the Commission received the following electric corporate filings:

Docket Numbers: EC13-86-000.

Applicants: ITC Midwest LLC.

Description: Application for Approval of Acquisition of Transmission Assets of ITC Midwest LLC.

Filed Date: 3/27/13.

Accession Number: 20130327-5220.

Comments Due: 5 p.m. ET 4/17/13.

Take notice that the Commission received the following electric rate filings:

Docket Numbers: ER10-2417-001.

Applicants: ExxonMobil Baton Rouge Complex.

Description: Compliance filing to be effective 8/26/2010.

Filed Date: 3/28/13.

Accession Number: 20130328-5040.

Comments Due: 5 p.m. ET 4/18/13.

Docket Numbers: ER12-1378-000.

Applicants: Cleco Power LLC.

Description: Transmission Rate Case Refund Report to be effective N/A.

Filed Date: 3/28/13.

Accession Number: 20130328-5000.

Comments Due: 5 p.m. ET 4/18/13.

Docket Numbers: ER13-122-001.

Applicants: ExxonMobil Beaumont Complex.

Description: Compliance filing to be effective 10/16/2012.

Filed Date: 3/28/13.

Accession Number: 20130328-5106.

Comments Due: 5 p.m. ET 4/18/13.

Docket Numbers: ER13-123-001.

Applicants: ExxonMobil LaBarge Shute Creek Treating.

Description: Compliance filing to be effective 10/16/2012.

Filed Date: 3/28/13.

Accession Number: 20130328-5105.

Comments Due: 5 p.m. ET 4/18/13.

Docket Numbers: ER13-534-002.

Applicants: Mammoth One, LLC.

Description: Notice of Non-Material Change-in-Status of Mammoth One, LLC.

Filed Date: 3/27/13.

Accession Number: 20130327-5212.

Comments Due: 5 p.m. ET 4/17/13.

Docket Numbers: ER13-818-001.

Applicants: Niagara Mohawk Power Corporation, New York Independent System Operator, Inc.

Description: Refiling of SA 1951 to provide improved legibility of 1/29/13 filing (FID 648) to be effective 11/9/2012.

Filed Date: 3/28/13.

Accession Number: 20130328-5041.

Comments Due: 5 p.m. ET 4/18/13.

Docket Numbers: ER13-1170-000.

Applicants: Midwest Independent Transmission System Operator, Inc.

Description: Attachment P Cleco GFAs to be effective 12/19/2013.

Filed Date: 3/27/13.

Accession Number: 20130327-5169.

Comments Due: 5 p.m. ET 4/17/13.

Docket Numbers: ER13-1171-000.

Applicants: Northern States Power Company, a Wisconsin corporation.

Description: Northern States Power Company, a Wisconsin corporation submits its 2012 Formula Rate Charges for Post-Retirement Benefits Other than Pensions.

Filed Date: 3/27/13.

Accession Number: 20130327-5205.

Comments Due: 5 p.m. ET 4/17/13.

Docket Numbers: ER13-1172-000.

Applicants: Southern California Edison Company.

Description: Letter Agreement with Wellhead Renewable Energy, LLC to be effective 3/22/2013 under ER13-1172 Filing Type: 10.

Filed Date: 3/28/13.

Accession Number: 20130328-5096.

Comments Due: 5 p.m. ET 4/18/13.

Docket Numbers: ER13-1173-000.

Applicants: Southwest Power Pool, Inc.

Description: Integrated Marketplace Modifications Filing to be effective 3/1/2014.

Filed Date: 3/28/13.

Accession Number: 20130328-5115.

Comments Due: 5 p.m. ET 4/18/13.

Docket Numbers: ER13-1174-000.

Applicants: Southern California Edison Company.

Description: 2013 TACBAA Update to be effective 6/1/2013.

Filed Date: 3/28/13.

Accession Number: 20130328-5138.

Comments Due: 5 p.m. ET 4/18/13.

Take notice that the Commission received the following open access transmission tariff filings:

Docket Numbers: OA09-16-004.

Applicants: Northeast Utilities Service Company.

Description: Northeast Utilities Service Company submits 2012 Annual Refund Report—Order 890 Requirement.

Filed Date: 3/28/13.

Accession Number: 20130328-5091.

Comments Due: 5 p.m. ET 4/18/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 28, 2013.
Nathaniel J. Davis, Sr.,
Deputy Secretary.

[FR Doc. 2013-08061 Filed 4-5-13; 8:45 am]

BILLING CODE 6717-01-P